DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission, DOE.

DATE AND TIME: September 18, 2014 10 a.m.

PLACE: Room 2C, 888 First Street NE., Washington, DC 20426.

STATUS: Open.

MATTERS TO BE CONSIDERED: Agenda * Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1008th—Meeting
Item No. | Docket No. | Company
Administrative
A-1 | AD02-7-000 | Customer Matters, Reliability, Security and Market Operations.
A-2 | AD02-1-000 | Agency Business Matters.
A-3 | AD14-17-000 | Update on MISO 2016 Resource Adequacy Forecast.
Electric
E-1 | ER13-93-001, ER13-94-001, ER13-94-002, ER13-94-003 | Avista Corporation.
| ER13-98-001, ER13-99-001, ER13-99-002 | Puget Sound Energy, Inc.
| ER13-836-001, ER13-836-002 | MATL LLP.
| NJ13-1-001 | Bonneville Power Administration.
E-2 | ER13-75-001, ER13-75-003, ER13-75-005 | Public Service Company of Colorado.
| ER13-77-001, ER13-77-002, ER13-77-003 | Tucson Electric Power Company
| ER13-78-001, ER13-78-002, ER13-78-003 | UNS Electric, Inc.
| ER13-79-001, ER13-79-002, ER13-79-003 | Public Service Company of New Mexico.
| ER13-82-001, ER13-82-002, ER13-82-003 | Arizona Public Service Company.
| ER13-91-001, ER13-91-002, ER13-91-003 | El Paso Electric Company
| ER13-96-001, ER13-96-002, ER13-96-003 | Black Hills Power, Inc.
| ER13-97-001, ER13-97-002, ER13-97-003 | Black Hills Colorado Electric Utility Company, LP.
| ER13-105-001, ER13-105-002, ER13-105-003 | NV Energy, Inc.
| ER13-120-001, ER13-120-002, ER13-120-003 | Cheyenne Light, Fuel, and Power Company
E-3 | ER12-1194-000 | Midwest Independent Transmission System Operator, Inc.
E-4 | RM14-12-000 | Demand and Energy Data Reliability Standard.
E-5 | RM05-5-022 | Standards for Business Practices and Communication Protocols for Public Utilities.
E-6 | RC11-6-004 | North American Electric Reliability Corporation.
E-7 | QM13-2-002 | PPL Electric Utilities Corporation.
E-8 | EF14-4-000 | Western Area Power Administration.
E-9 | EL14-43-000 | East Texas Electric Cooperative, Inc., Sam Rayburn Electric Cooperative, Inc., and Tex-La Electric Cooperative of Texas, Inc. v. Entergy Texas, Inc.
| EL14-69-000 | Entergy Texas, Inc. v. East Texas Electric Cooperative, Inc.,Sam Rayburn Electric Cooperative, Inc., and Tex-La Electric Cooperative of Texas, Inc.
E-10 | EL14-57-000 | City of Hastings, Nebraska, Hastings Utilities, Electric Division and City of Grand Island, Nebraska, Grand Island Utilities, Electric Division v. Southwest Power Pool, Inc.
E-11 | EL14-51-000 | Pacific Gas and Electric Company.
E-12 | EL14-68-000 | Bloom Energy Corporation.
E-13 | OMITTED |
E-14 | ER13-1556-002 | Entergy Services, Inc.
E-15 | OMITTED |
E-16 | RM14-13-000 | Communications Reliability Standards.
E-17 | ER05-1065-008, ER05-1065-014, OA07-32-015 | Entergy Services, Inc.
| ER12-1071-002 | Entergy Arkansas, Inc.
E-18 | ER11-2777-001, ER11-2779-001, ER11-2782-001, ER11-2786-001, ER11-2788-001, ER11-2789-001, (Consolidated) | Midwest Independent Transmission System Operator, Inc. and Ameren Illinois Company.
| ER11-2772-002, ER11-2778-002, ER11-2779-002, ER11-2782-002, ER11-2786-002, ER11-2788-002, ER11-2789-002, ER11-2790-002, (Consolidated) |
E-19 | OA08-53-003 | Midwest Independent Transmission System Operator, Inc.
Gas
G-1 | IS14-106-000 | Shell Pipeline Company LP.
G-2 | OMITTED. |
Hydro
H-1 | RM14-22-000 | Revisions and Technical Corrections to Conform the Commission's Regulations to the Hydropower Regulatory Efficiency Act of 2013.
H-2 | P-13287-005 | City of New York, New York.
H-3 | P-14520-001 | City of Banning, California.
Certificates
C-1 | CP14-12-001 | Sabine Pass Liquefaction, LLC and Sabine Pass LNG, L.P.

Issued: September 11, 2014.
Kimberly D. Bose,
Secretary.

A free Web cast of this event is available through www.ferc.gov. Anyone with Internet access who desires to view this event can do so by navigating to www.ferc.gov' s Calendar of Events and locating this event in the Calendar. The event will contain a link to its Web cast. The Capitol Connection provides technical support for the free Web casts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2014-22279 Filed 9-15-14; 4:15 pm]

BILLING CODE 6717-01-P